DEPARTMENT OF LABOR

Employment and Training Administration

[TA-W-51,636]

Hess-Armaclad, Inc., Quincy, PA; Notice of Termination of Investigation

Pursuant to section 221 of the Trade Act of 1974, as amended, an investigation was initiated on April 30, 2003, in response to a worker petition filed by a company official on behalf of workers at Hess-Armaclad, Inc., Quincy, Pennsylvania.

The petitioner has requested that the petition be withdrawn. Consequently, the investigation has been terminated.

Signed in Washington, DC this 14th day of May, 2003.
Elliott S. Kushner,
Certifying Officer, Division of Trade Adjustment Assistance.

[FR Doc. 03-13810 Filed 6-2-03; 8:45 am]

BILLING CODE 4510-30-P